DEPARTMENT OF TRANSPORTATION

Federal Transit Administration

[FTA Docket No. FTA 2025-0234]

Agency Information Collection Activity Under OMB Review: Passenger Ferry Grant Program, Electric or Low-Emitting Ferry Program, and Ferry Service for Rural Communities Program

AGENCY: Federal Transit Administration, Department of Transportation.

ACTION: Notice of request for comments.

SUMMARY: In accordance with the Paperwork Reduction Act of 1995, this notice announces the intention of the Federal Transit Administration (FTA) to request the Office of Management and Budget (OMB) to approve a request for an extension without change to an existing information collection: Passenger Ferry Grant Program, Electric or Low-Emitting Ferry Program, and Ferry Service for Rural Communities Program.

DATES: Comments must be submitted before February 17, 2026.

ADDRESSES: To ensure that your comments are not entered more than once into the docket, submit comments identified by the docket number by only one of the following methods:

1. Website: https://www.regulations.gov. Follow the instructions for submitting comments on the U.S. Government electronic docket site. All electronic submissions must be made to the U.S. Government electronic docket site at https://www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to https://www.regulations.gov. You may review DOT's complete Privacy Act Statement in the Federal Register published April 11, 2000, (65 FR 19477), or you may visit https://www.regulations.gov. Docket: For access to the docket to read background documents and comments received, go to https://www.regulations.gov at any time. Background documents and comments received may also be viewed at the U.S. Department of Transportation, 1200 New Jersey Avenue SE, Docket Operations, M-30, West Building, Ground Floor, Room W12-140, Washington, DC 20590-0001 between 9 a.m. and 5 p.m., Monday through Friday, except Federal holidays.

FOR FURTHER INFORMATION CONTACT: FTA Grant Manager 202-366-2053 or ftaferryprograms@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Passenger Ferry Grant Program, Electric or Low-Emitting Ferry Program, and Ferry Service for Rural Communities Program.

OMB Number: 2132-0583.

Background: In accordance with the Paperwork Reduction Act (PRA) of 1995, the Federal Transit Administration (FTA) is requesting Office of Management and Budget (OMB) 3-year approval of an extension without change for a currently approved collection. The Federal Transit Administration (FTA) established three ferry programs to improve and expand ferry service in communities across the country to help people connect to jobs and opportunity. The Passenger Ferry Grant Program makes funding available competitively to assist in the financing of capital projects to support passenger ferry systems in urbanized areas, such as ferry vessels, terminals, and related infrastructure. The Electric or Low-Emitting Ferry Program provides competitive funding for projects that support the purchase of electric or low-emitting ferries and the electrification of or other reduction of emissions from existing ferries. The Ferry Service for Rural Communities Program provides competitive funding to states to ensure basic essential ferry service is provided to rural areas. FTA collects information from applicants and grantees to evaluate eligibility, prioritize funding decisions, and oversee compliance and performance for the three federal ferry grant programs.

Respondents: Public transportation providers, local governmental entities, States, and federally recognized Tribes that operate a public ferry system.

Estimated Annual Number of Respondents: 30 respondents.

Estimated Total Annual Burden: 420 hours.

Frequency: Annually.

Kusum Dhyani,
Director, Office of Management Planning.

[FR Doc. 2025-22839 Filed 12-15-25; 8:45 am]

BILLING CODE 4910-57-P